DEPARTMENT OF LABOR

Employment and Training Administration

[TA-W-65,787]

Stand By Screw Machine, Incorporated, Berea, OH; Notice of Termination of Investigation

Pursuant to Section 221 of the Trade Act of 1974, as amended, an investigation was initiated on April 13, 2009, in response to a petition filed on behalf of workers of Stand By Screw Machine, Incorporated, Berea, Ohio.

The petitioner has requested that the petition be withdrawn. Therefore, the investigation under this petition has been terminated.

Signed at Washington, DC, this 8th day of May, 2009.
Linda G. Poole,
Certifying Officer, Division of Trade Adjustment Assistance.

[FR Doc. E9-13452 Filed 6-8-09; 8:45 am]

BILLING CODE 4510-FN-P